DEPARTMENT OF TRANSPORTATION

Federal Aviation Administration

14 CFR Part 97

[Docket No. 30219; Amdt. No. 2026]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. these regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA Regional Office of the region in which affected airport is located; or

3. The Flight Inspection Area Office which originated the SIAP.

For Purchase—Individual SIAP copies may be obtained from:

1. FAA Public inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC/Permanent (P) Notices to Airmen (NOTAM) which are incorporated by reference in the amendment under 5 U.S.C. 552(a), 1 CFR part 51, and § 97.20 of the Federal Aviation's Regulations (FAR). Materials incorporated by references are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and amendment number.

The Rule

This amendment to part 97 of the Federal Aviation Regulations (14 CFR part 97) establishes, amends, suspends, or revokes SIAPs. For safety and timel8iness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Execution Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on December 8, 2000.
L. Nicholas Lacey,
Director, Flight Standards Service.

Adoption of The Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective Upon Publication

FDC date | State | City | Airport | FDC No. | SIAP
09/19/00 | CT | Windsor Locks | Bradley Intl | 0/1538 | VOR OR TACAN RWY 33 ORIG . . .
09/19/00 | CT | Windsor Locks | Bradley intl | 0/1539 | ILS RWY 33 AMDT 7 . . .
09/27/00 | CA | Lake Tahoe | South Lake Tahoe | 0/1949 | LDA/DME-2 RWY 18 AMDT 1 . . .
09/27/00 | CA | Lake Tahoe | South Lake Tahoe | 0/1951 | GPS RWY 18 ORIG . . .
09/27/00 | CA | Lake Tahoe | South Lake Tahoe | 0/1952 | VOR/DME OR GPS-A AMDT 3A . . .
09/27/00 | CA | Lake Tahoe | South Lake Tahoe | 0/1953 | LDA/DME-1 RWY 18 AMDT 7 . . .
10/27/00 | MS | Olive Branch | Olive Branch | 0/3365 | NDB OR GPS RWY 18, AMDT 4A . . .
10/27/00 | TN | Memphis | Memphis Intl | 0/3349 | ILS RWY 18R AMDT 12A . . .
11/08/00 | OK | Sand Springs | William R Pogue Muni | 0/4457 | NDB RWY 35, AMDT 2A . . . REPLACES FDC 0/3887 PUBLISHED IN TL00-26.
11/17/00 | MA | Mansfield | Mansfield Muni | 0/4304 | GPS RWY 32 ORIG-A . . .
11/17/00 | MA | Mansfield | Mansfield Muni | 0/4305 | NDB RWY 32 AMDT 6C . . .
11/17/00 | NY | White Plains | Westchester County | 0/4293 | ILS RWY 16 AMDT 22B . . .
11/17/00 | NY | White Plains | Westchester County | 0/4294 | ILS RWY 34 AMDT 3 . . .
11/21/00 | FL | Fort Myers | Page Field | 0/4377 | RADAR-1, AMDT 2 . . .
11/21/00 | FL | Fort Myers | Page Field | 0/4379 | ILS RWY 5, AMDT 6D . . .
11/21/00 | FL | Fort Myers | Page Field | 0/4380 | NDB RWY 5, AMDT 5B . . .
11/21/00 | FL | Fort Myers | Page Field | 0/4381 | VOR RWY 13, ORIG-A . . .
11/21/00 | LA | Eunice | Eunice | 0/4374 | NDB OR GPS RWY 16 ORIG-A . . .
11/21/00 | TX | El Paso | El Paso Intl | 0/4373 | NDB RWY 22 AMDT 28B . . .
11/23/00 | AR | Siloam Springs | Smith Field | 0/4407 | VOR OR GPS-A AMDT 8 . . .
11/23/00 | LA | Eunice | Eunice | 0/4405 | VOR/DME OR GPS-A AMDT 2 . . .
11/23/00 | OK | Ardmore | Ardmore Muni | 0/4403 | ILS RWY 31 AMDT 4 . . .
11/24/00 | ID | Boise | Boise Air Terminal (Gowen Field) | 0/4424 | GPS RWY 28L AMDT 1B . . .
11/29/00 | CA | Sacramento | Sacramento Executive | 0/4588 | ILS RWY 2 AMDT 22A . . .
11/29/00 | MO | Mosby | Clay County Regional | 0/4590 | GPS RWY 18 ORIG-B . . .
11/30/00 | NY | Islip | Long Island MacArthur | 0/4694 | ILS RWY 24 AMDT 2 . . .
11/30/00 | LA | Baton Rouge | Baton Rouge Metropolitan/Ryan Field | 0/4602 | GPS RWY 31 ORIG-A . . .
11/30/00 | LA | Homer | Homer Muni | 0/4601 | NDB OR GPS RWY 12 AMDT 1 . . .
11/30/00 | LA | Minden | Minden-Webster | 0/4600 | GPS RWY 19 ORIG . . .
11/30/00 | MT | Poplar | Poplar | 0/4665 | RNAV RWY 9, ORIG . . .
11/30/00 | MT | Poplar | Poplar | 0/4666 | RNAV RWY 27, ORIG . . .
11/30/00 | NH | Manchester | Manchester | 0/4651 | ILS RWY 35 AMDT 20 . . .
11/30/00 | NH | Manchester | Manchester | 0/4652 | VOR/DME OR GPS RWY 17 ORIG-A . . .
11/30/00 | NH | Manchester | Manchester | 0/4653 | NDB OR GPS RWY 35 AMDT 13A . . .
11/30/00 | NH | Manchester | Manchester | 0/4654 | VOR/DME RNAV RWY 6 AMDT 4 . . .
11/30/00 | NH | Manchester | Manchester | 0/4655 | VOR RWY 35 AMDT 15A . . .
11/30/00 | NH | Manchester | Manchester | 0/4656 | GPS RWY 6 ORIG . . .
11/30/00 | NH | Manchester | Manchester | 0/4658 | ILS RWY 17 AMDT 2 . . .
11/30/00 | TX | CLEBURNE | Cleburne Muni | 0/4733 | LOC/DME RWY 15 ORIG . . .
11/30/00 | TX | Cleburne | Cleburne Muni | 0/4734 | VOR/DME RNAV RWY 15 ORIG . . .
11/30/00 | TX | Houston | George Bush Intercontinental Airport/Houston | 0/4619 | GPS RWY 27 AMDT 1 . . .
11/30/00 | TX | Marshall | Harrison County | 0/4628 | GPS RWY 33 ORIG-D . . .
11/30/00 | TX | Marshall | Harrison County | 0/4629 | VOR/DME RNAV RWY 33 AMDT 1C . . .
11/30/00 | WA | Bellingham | Bellingham Intl | 0/4716 | MLS RWY 34 ORIG . . .
11/30/00 | WA | Bellingham | Bellingham Intl | 0/4717 | GPS RWY 34, ORIG-A . . .
11/30/00 | WA | Bellingham | Bellingham Intl | 0/4722 | NDB RWY 16, ORIG . . .
11/30/00 | WA | Bellingham | Bellingham Intl | 0/4725 | GPS RWY 16, ORIG-A . . .
11/30/00 | WA | Bellingham | Bellingham Intl | 0/4728 | ILS RWY 16, AMDT 3 . . .
11/30/00 | WI | Mosinee | Central Wisconsin | 0/4721 | ILS RWY 8, AMDT 11B . . .
12/01/00 | AL | Tuscaloosa | Tuscaloosa Muni | 0/4757 | ILS RWY 4, AMDT 14B . . .
12/01/00 | FL | Boca Raton | Boca Raton | 0/4773 | GPS RWY 5, AMDT 1 . . .
12/01/00 | FL | Boca Raton | Boca Raton | 0/4774 | VOR/DME OR GPS-A, ORIG-A . . .
12/01/00 | UT | Wendover | Wendover | 0/4804 | VOR/DME OR TACAN RWY 26, ORIG . . .
12/04/00 | LA | Bunkie | Bunkie Muni | 0/4814 | VOR/DME OR GPS-A, AMDT 5 . . . THIS REPLACES FDC 0/4814
12/04/00 | MO | Harrisonville | Lawrence Smith Memorial | 0/4826 | VOR/DME RWY 35 ORIG . . .
12/04/00 | MO | Harrisonville | Lawrence Smith Memorial | 0/4828 | GPS RWY 35 ORIG . . .
12/04/00 | MO | St Joseph | Rosecrans Memorial | 0/4831 | LOC BC RWY 17 AMDT 8B . . .
12/05/00 | OK | Lawton | Lawton-Fort Sill Regional | 0/4873 | RADAR-2 AMDT 1 . . .

[FR Doc. 00-31929 Filed 12-13-00; 8:45 am]

BILLING CODE 4910-13-M